DEPARTMENT OF COMMERCE

National Oceanic and Atmospheric Administration

RIN 0648-XP04

Notice of Intent to Prepare an Environmental Impact Statement for Sea Turtle Conservation and Recovery in Relation to the Atlantic Ocean and Gulf of Mexico Trawl Fisheries and to Conduct Public Scoping Meetings

AGENCY: National Marine Fisheries Service (NMFS), National Oceanic and Atmospheric Administration (NOAA), Commerce.

ACTION: Notice; Extension of public comment period.

SUMMARY: In response to requests from members of the public, NMFS extends the public comment period on the notice of intent to prepare an Environmental Impact Statement (EIS) to comply with the National Environmental Policy Act (NEPA) by assessing potential impacts resulting from the proposed implementation of new sea turtle regulations in the Atlantic and Gulf of Mexico trawl fisheries. The comment period is now extended for an additional 30 days until August 10, 2009.

DATES: Comments will be accepted until August 10, 2009. Comments received or postmarked after that date will be considered to the extent practicable.

ADDRESSES: Written comments on the scope of the EIS should be sent to Alexis.Gutierrez@noaa.gov, 1315 East West Highway, Silver Spring, MD 20910; 301-713-2322 or fax 301-713-4060. Additional information, including the Scoping document, can be found at: http://www.nmfs.noaa.gov/pr/species/turtles/strategy.htm.

FOR FURTHER INFORMATION CONTACT: Dennis Klemm (ph. 727-824-5312, fax 727-824-5309, email Dennis.Klemm@noaa.gov), Pasquale Scida (ph. 978-281-9208, fax 978-281-9394, email Pasquale.Scida@noaa.gov), Alexis Gutierrez (ph. 301-713-2322, fax 301-713-4060, email Alexis.Gutierrez@noaa.gov).

SUPPLEMENTARY INFORMATION:

Background

On May 8, 2009, NMFS published a Notice of Intent to Prepare an Environmental Impact Statement (EIS) for Sea Turtle Conservation and Recovery in Relation to the Atlantic Ocean and Gulf of Mexico Trawl Fisheries and to Conduct Public Scoping Meetings (74 FR 21627). The Notice announced that NMFS is developing rulemaking to address sea turtle bycatch in state and Federal trawl fisheries under the Endangered Species Act. The notice also announced that NMFS would conduct five public scoping meetings. NMFS has now conducted those scoping meetings and has been asked to extend the comment period for an additional 30 days.

NMFS is asking for public comment on the alternatives outlined in the scoping document. NMFS will evaluate a range of alternatives in the Draft EIS for implementing phase one of the Strategy to reduce sea turtle bycatch and mortality in trawl fisheries along the Atlantic Coast. In addition to evaluating the status quo, NMFS will evaluate a range of alternatives including which Atlantic trawl fisheries will be regulated, the temporal and spatial aspects of the regulation and the potential changes to the operation of Atlantic trawl fisheries. These alternatives could include time and area closures, requiring the use of TEDs in the summer flounder, whelk, croaker and weakfish flynet and calico scallop trawls for the entire Atlantic Coast, as well as combination of spatial and temporal options. In terms of spatial options, sea turtles in U.S. waters range as far North as Georges Bank and the Gulf of Maine, but may be less likely to interact with a fishery towards the northern extent of this range. NMFSwill likely evaluate several alternatives related to the northern/northeastern extent of any required gear modification or other regulation. Similarly, several alternatives will likely be evaluated for the temporal extent of when a regulation would be in effect, as sea turtles migrate north along the Atlantic coast as waters warm each year, and are only present in more northern areas during the warmer months. The public scoping document, the powerpoint presentation and the Notice of Intent can be found at http://www.nmfs.noaa.gov/pr/species/turtles/strategy.htm. The public comment period is now extended 30 days and will close on August 10, 2009.

Dated: June 24, 2009.
James H. Lecky,
Office Director, Office of Protected Resources, National Marine Fisheries Service.

[FR Doc. E9-15552 Filed 6-30-09; 8:45 am]

BILLING CODE 3510-22-S